DEPARTMENT OF DEFENSE

Office of the Secretary

[Transmittal No. 20-03]

Arms Sales Notification

AGENCY: Defense Security Cooperation Agency, Department of Defense.

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(1) arms sales notification is published to fulfill the requirements of section 155 of Public Law 104-164 dated July 21, 1996. The following is a copy of a letter to the Speaker of the House of Representatives, Transmittal 20-03 with attached Policy Justification and Sensitivity of Technology.

Dated: March 10, 2020.
Aaron T. Siegel,
Alternate OSD Federal Register Liaison Officer, Department of Defense.

BILLING CODE 5001-06-C

Transmittal No. 20-03

Notice of Proposed Issuance of Letter of Offer Pursuant to Section 36(b)(1) of the Arms Export Control Act, as amended

(i) Prospective Purchaser: Kingdom of Morocco

(ii) Total Estimated Value:

Major Defense Equipment * | $211.18 million
Other | $ 28.17 million
TOTAL | $239.35 million

(iii) Description and Quantity or Quantities of Articles or Services under Consideration for Purchase:

Major Defense Equipment (MDE):

Twenty five (25) M88A2 Heavy Equipment Recovery Combat Utility Lift and Evacuation System (HERCULES) Vehicles and/or M88A1 Long Supply HERCULES Refurbished Vehicles

Twenty-five (25) M2 .50 Caliber Machine Guns

Non-MDE:

Also included are twenty five (25) export Single Channel Ground and Airborne Radio System (SINCGARS); twenty five (25) AN/PSN-13A Defense Advanced Global Positioning System (GPS) Receiver (DAGR) with Selective-Availability/Anti-Spoofing Module (SAASM); thirty (30) AN/VAS-5B Driver Vision Enhancer (DVE) kits; twenty five (25) M239 or M250 smoke grenade launchers; one thousand eight hundred (1,800) M76 (G826) or L8A1/L8A3 (G815) smoke grenade rounds; spare parts; support equipment; depot level support; Government-Furnished Equipment (GFE); repair parts; communication support equipment; communication equipment integration; tools and test equipment; training; training simulators; repair and return program; U.S. Government and contractor engineering, technical, and logistics support services; Technical Assistance Field Team (TAFT); and other related elements of logistics and program support. Additionally, the following recommended basic load ammunition may be included upon request from customer: Twenty five thousand (25,000) A576 cartridges, .50 caliber linked 4 API/API-T F/M2; three hundred (300) G815 - grenade, smoke screening L8A1/A3; two thousand five hundred (2,500) A541 - 50 armor piercing incendiary, tracer M20 F/M2; ninety-one thousand eight hundred (91,800) A557 - cartridge, .50 caliber 4 ball/1 tracer linked M33 F/M2; fifty four thousand (54,000) A598 - cartridge, .50 caliber blank F/M2; other technical assistance and support equipment; and other related elements of logistics and program support.

(iv) Military Department: Army (MO-B-UTS)

(v) Prior Related Cases, if any: None

(vi) Sales Commission, Fee, etc., Paid, Offered, or Agreed to be Paid: None

(vii) Sensitivity of Technology Contained in the Defense Article or Defense Services Proposed to be Sold: See Attached Annex.

(viii) Date Report Delivered to Congress: March 3, 2020

* As defined in Section 47(6) of the Arms Export Control Act.

POLICY JUSTIFICATION

Morocco—M88A2 Heavy Equipment Recovery Combat Utility Lift and Evacuation System (HERCULES), Support, and Equipment

The Government of Morocco has requested to buy twenty five (25) M88A2 Heavy Equipment Recovery Combat Utility Lift and Evacuation System (HERCULES) vehicles and/or M88A1 long supply HERCULES refurbished vehicles; and twenty-five (25) M2 .50 caliber machine guns. Also included are twenty five (25) export Single Channel Ground and Airborne Radio System (SINCGARS); twenty five (25) AN/PSN-13A Defense Advanced Global Positioning System (GPS) Receiver (DAGR) with Selective-Availability/Anti-Spoofing Module (SAASM); thirty (30) AN/VAS-5B Driver Vision Enhancer (DVE) kits; twenty five (25) M239 or M250 smoke grenade launchers; one thousand eight hundred (1,800) M76 (G826) or L8A1/L8A3 (G815) smoke grenade rounds; spare parts; support equipment; depot level support; Government-Furnished Equipment (GFE); repair parts; communication support equipment; communication equipment integration; tools and test equipment; training; training simulators; repair and return program; U.S. Government and contractor engineering, technical, and logistics support services; Technical Assistance Field Team (TAFT); and other related elements of logistics and program support. Additionally, the following recommended basic load ammunition may be included upon request from customer: twenty five thousand (25,000) A576 cartridges, .50 caliber linked 4 API/API-T F/M2; three hundred (300) G815 - grenade, smoke screening L8A1/A3; two thousand five hundred (2,500) A541 - 50 armor piercing incendiary, tracer M20 F/M2; ninety-one thousand eight hundred (91,800) A557 - cartridge, .50 caliber 4 ball/1 tracer linked M33 F/M2; fifty four thousand (54,000) A598 - cartridge, .50 caliber blank F/M2; other technical assistance and support equipment; and other related elements of logistics and program support. The total estimated cost is $239.35 million.

This proposed sale will support the foreign policy and national security of the United States by helping to improve the security of a major non-NATO ally that continues to be an important force for political stability and economic progress in North Africa.

The proposed sale will improve Morocco's capability to meet current and future combat vehicle recovery requirements. Morocco will use the enhanced capability to enable armored forces training to strengthen its homeland defense and deter regional threats. Morocco intends to use these defense articles and services to modernize its armed forces by updating their combat vehicle recovery capability in pace with their armored unit upgrades. Morocco will have no difficulty absorbing these vehicles into its armed forces.

The proposed sale of this equipment and services will not alter the basic military balance in the region.

The principal contractor will be BAE, York, Pennsylvania. The purchaser typically requests offsets. Any offset agreement will be defined in negotiations between the purchaser and the contractor(s).

Implementation of this sale will require the assignment of approximately 30 U.S. Government or contractor representatives to travel to Morocco for equipment deprocessing/fielding, system checkout and new equipment training.

There will be no adverse impact on U.S. defense readiness as a result of this proposed sale.

Transmittal No. 20-03

Notice of Proposed Issuance of Letter of Offer Pursuant to Section 36(b)(1) of the Arms Export Control Act

Annex

Item No. vii

(vii) Sensitivity of Technology:

1. The M88A2 Improved Recovery Vehicle HERCULES (Heavy Equipment Recovery Combat Utility Lift and Evacuation System) recovers tanks mired to different depths, removes and replaces tank turrets and power packs, and uprights overturned heavy combat vehicles. The main winch on the M88A2 is capable of a 70-ton, single-line recovery, allowing the HERCULES to provide recovery of the 70-ton M1A2 Abrams tanks. The highest level of information that could be transferred with the sale of HERCULES is UNCLASSIFIED.

2. If a technologically advanced adversary were to obtain knowledge of the specific hardware and software elements, the information could be used to develop countermeasures that might reduce weapon system effectiveness or be used in the development of a system with similar or advanced capabilities.

3. A determination has been made that Morocco can provide substantially the same degree of protection for the sensitive technology being released as the U.S. Government. This sale is necessary in furtherance of the U.S. foreign policy and national security objectives outlined in the Policy Justification.

4. All defense articles and services listed in this transmittal are authorized for release and export to the Government of Morocco.

[FR Doc. 2020-05468 Filed 3-16-20; 8:45 am]

BILLING CODE 5001-06-P